DEPARTMENT OF COMMERCE

International Trade Administration

[A-201-848]

Emulsion Styrene-Butadiene Rubber From Mexico: Final Results of Antidumping Duty Administrative Review; 2018-2019

AGENCY: Enforcement and Compliance, International Trade Administration, Department of Commerce.

SUMMARY: The Department of Commerce (Commerce) determines that Industrias Negromex S.A. de C.V. (Negromex) made sales of subject merchandise at prices below normal value during the period of review (POR) September 1, 2018, through August 31, 2019.

DATES: Applicable August 3, 2021.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

This review covers one producer/exporter of the subject merchandise: Negromex. On January 29, 2021, Commerce published the Preliminary Results.¹ On March 22, 2021, we received case briefs from the petitioner ² and Negromex.³ On March 29, 2021, we received a rebuttal brief from the petitioner.⁴ On May 14, 2021, we extended the deadline for issuance of the final results of this review to July 28, 2021.⁵

¹ See Emulsion Styrene-Butadiene Rubber from Mexico: Preliminary Results of Antidumping Duty Administrative Review; 2018-2019, 86 FR 7531 (January 29, 2021) (Preliminary Results).

² See Petitioner's Letter, “Emulsion Styrene-Butadiene Rubber (E-SBR) from Mexico, Administrative Review 2018-2019: Case Brief and Request to Participate in Hearing,” dated March 22, 2021.

³ See Negromex's Letter, “Emulsion Styrene-Butadiene Rubber from Mexico—Case Brief,” dated March 22, 2021.

⁴ See Petitioner's Letter, “Emulsion Styrene-Butadiene Rubber (E-SBR) from Mexico, Administrative Review 2018-2019: Rebuttal Brief,” dated March 29, 2021.

⁵ See Memorandum, “Extension of Deadline for Final Results of Antidumping Duty Administrative Review, 2018-2019,” dated May 14, 2021.

Commerce conducted this administrative review in accordance with section 751 of the Tariff Act of 1930, as amended (the Act).

Scope of the Order

The product covered by the order is emulsion styrene-butadiene rubber from Mexico. For a complete description of the scope of this order, see the Issues and Decision Memorandum.⁶

⁶ For a full description of the scope, see Memorandum, “Emulsion Styrene-Butadiene Rubber from Mexico: Issues and Decision Memorandum for the Final Results of the 2018-2019 Antidumping Duty Administrative Review,” dated concurrently with, and hereby adopted by, this notice (Issues and Decision Memorandum).

Analysis of Comments Received

We addressed all issues raised in the case and rebuttal briefs filed by interested parties in the Issues and Decision Memorandum. Attached to this notice, in the Appendix, is a list of the issues which parties raised. The Issues and Decision Memorandum is a public document and is on file electronically via Enforcement and Compliance's Antidumping and Countervailing Duty Centralized Electronic Service System (ACCESS). ACCESS is available to registered users at http://access.trade.gov. In addition, a complete version of the Issues and Decision Memorandum can be accessed directlyat http://enforcement.trade.gov/frn/index.html.

Changes Since the Preliminary Results

Based on a review of the record and comments received from interested parties regarding our Preliminary Results, we made certain changes to the margin calculation for Negromex.⁷

⁷ See Issues and Decision Memorandum.

Final Results of Administrative Review

We are assigning the following dumping margin to the firm listed below for the POR, September 1, 2018, through August 31, 2019:

Producers/exporters | Weighted- average dumping margin (percent)
Industrias Negromex S.A. de C.V | 23.26

Disclosure

We will disclose to interested parties the calculations performed in connection with these final results within five days of the publication of this notice, consistent with 19 CFR 351.224(b).

Assessment Rates

Pursuant to section 751(a)(2)(C) of the Act, and 19 CFR 351.212(b)(1), Commerce has determined, and CBP shall assess, antidumping duties on all appropriate entries of subject merchandise, in accordance with the final results of this review. Commerce intends to issue appropriate assessment instructions to CBP no earlier than 41 days after the date of publication of the final results of this review in the Federal Register, in accordance with 19 CFR 356.8(a).

For Negromex, because its weighted-average dumping margin is not zero or de minimis (i.e., less than 0.5 percent), Commerce has calculated importer-specific antidumping duty assessment rates. We calculated importer-specific antidumping duty assessment rates by aggregating the total amount of dumping calculated for the examined sales to that importer and dividing each of these amounts by the total sales value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

Consistent with Commerce's assessment practice, for entries of subject merchandise during the POR produced by Negromex, for which Negromex did not know that the merchandise was destined for the United States, we will instruct CBP to liquidate unreviewed entries at the all-others rate if there is no rate for the intermediate company(ies) involved in the transaction.⁸

⁸ For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review, as provided by section 751(a)(2)(C) of the Act: (1) For Negromex, the cash deposit rate will be the rate established in the final results of this review; (2) for merchandise exported by producers or exporters not covered in this administrative review, but covered in a prior segment of the proceeding, the cash deposit rate will continue to be the company-specific rate published for the most recently-completed segment of this proceeding; (3) if the exporter is not a firm covered in this review, a previous review, or the original less-than-fair-value (LTFV) investigation, but the producer is, the cash deposit rate will be the rate established for the most recent period for the producer of the merchandise; and (4) the cash deposit rate for all other producers or exporters will continue to be 19.52 percent, the all-others rate established in the LTFV investigation.⁹ These cash deposit requirements, when imposed, shall remain in effect until further notice.

⁹ See Emulsion Styrene-Butadiene Rubber from Brazil, the Republic of Korea, Mexico, and Poland: Antidumping Duty Orders, 82 FR 42790 (September 12, 2017).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing this notice in accordance with sections 751(a)(1) and 777(i) of the Act.

Dated: July 27, 2021.
Christian Marsh,
Acting Assistant Secretary for Enforcement and Compliance.

Appendix

List of Topics Discussed in the Issues and Decision Memorandum

I. Summary

II. Background

III. Scope of the Order

IV. Changes Since the Preliminary Results

V. Discussion of the Issues

Comment 1: Rejection of Unsolicited New Factual Information (NFI)

Comment 2: Correction of a Calculation Error

VI. Recommendation

[FR Doc. 2021-16473 Filed 8-2-21; 8:45 am]

BILLING CODE 3510-DS-P